ENVIRONMENTAL PROTECTION AGENCY

[FRL—7042-2]

EPA Science Advisory Board; Underground Storage Tanks (UST) Cleanup and Resource Conservation Recovery Act (RCRA) Subtitle C Program Benefits, Costs and Impacts Review Panel Request for Nominations

ACTION: Notice. Request for nominations to the Underground Storage Tanks (UST) Cleanup and Resource Conservation and Recovery Act (RCRA) Subtitle C Program Benefits, Costs and Impacts Review Panel of the Environmental Protection Agency's (EPA) Science Advisory Board (SAB).

SUMMARY: The U.S. Environmental Protection Agency (EPA) Science Advisory Board is announcing the formation of an Underground Storage Tanks (UST) Cleanup and Resource Conservation and Recovery Act (RCRA) Subtitle C Program Benefits, Costs and Impacts Review Panel (hereinafter, the “Panel”) and is soliciting nominations to this Panel. The EPA Science Advisory Board was established to provide independent scientific and technical advice, consultation, and recommendations to the EPA Administrator on the technical basis for EPA regulations. In this sense, the Board functions as a technical peer review panel.

Any interested person or organization may nominate qualified individuals for membership on the Panel. Nominees should be identified by name, occupation, position, address, telephone number, and e-mail address. To be considered, all nominations must include a current resume, preferably in electronic format, providing the nominee's background, experience and qualifications.

Background:

In 1996, the Office of Solid Waste and Emergency Response (OSWER) began to develop methodologies to better characterize the costs and benefits (including environmental, health, and other human welfare benefits) and other impacts of its various environmental programs. The OSWER draft documents to be reviewed as an advisory by the Panel address the proposed benefits, costs and impacts review methodology for two pilot programs in a coordinated fashion, namely the Underground Storage Tank (UST) Cleanup and Resource Conservation and Recovery Act (RCRA) Subtitle C prevention programs. The purpose of these draft documents is to present a range of potential methods OSWER could use to characterize or quantify each of the relevant attributes for the UST Cleanup and RCRA Subtitle C Programs, together with the advantages, disadvantages, and uncertainties. The methods range from relatively simple to more complex, resource-intensive methods.

The Proposed Charge

The Office of Solid Waste and Emergency Response (OSWER) is requesting that the EPA Science Advisory Board (SAB) review the following draft documents dated October 2000: “Approaches to Assessing the Benefits, Costs, and Impacts of the Office of Underground Storage Tanks Cleanup Program,” and “Approaches to Assessing the Benefits, Costs, and Impacts of the RCRA Subtitle C Program.” The draft Charge to the SAB is:

(1) Does the “OSWER Attributes Matrix” (Exhibit 1-1 in both reports) provide a good list of program attributes that could appropriately be used to describe OSWER program benefits, costs, impacts, and other key factors influencing program performance? Does the list provide a reasonable starting point for an analysis of an OSWER program that would ensure consideration of a broad range of program impacts and features? Should any attributes be modified, or deleted or added to this list, and if so, why?

(2) Keeping in mind that it was OSWER's intention to evaluate a range of methodological options, and to include some relatively less resource-intensive options (recognizing these are likely to be less technically rigorous), are the methods presented viable and technically sound? Will the methods lead to defensible conclusions? Are the assumptions associated with the methods reasonable? If you believe any of these methods or assumptions are not viable, sound, or defensible, why not? Are the methods consistent with EPA's Guidelines for Economic Analyses, to the extent the guidelines address the OSWER program attributes?

(3) Are the methods clearly and adequately described, for purposes of making a decision to select preferred methods for additional development and implementation? Are the advantages, disadvantages, and data requirements associated with each option clearly and adequately described? Is additional information needed for any of these methods in order for OSWER management to make an informed decision? If so, what information?

(4) Are there alternative methods (or modifications of methods presented in the reports) that could be used to better characterize any of the attributes addressed in the two reports, keeping potential resource limitations in mind? If so, what are they and how would they help? We are particularly interested in seeking SAB advice on methodologies to characterize the more traditional human health/environmental benefits (which represent EPA's core areas of responsibility), but OSWER would also welcome any recommendations the SAB might have on better ways to characterize and/or quantify some of the more “non-traditional” attributes such as sustainability and other long-term program impacts; the value of regulatory requirements that focus on providing information to the public; and the influence on program performance of factors such as stakeholder concerns and statutory/legal constraints.

The charge listed above can also be found on the EPA Science Advisory Board website at www.epa.gov/sab/.

The expertise needed to address the charge questions includes environmental economics, preferably with experience in waste, groundwater and surface water contamination issues, particularly in the UST and RCRA contexts, health risk assessment, and ecological impact assessment. Finally, it would be helpful to have a reviewer who is familiar with social science issues related to topics such as environmental justice, stakeholder values, the value of regulations requiring that information be provided to the public, and changes in the long-term behavior of the regulated community resulting from environmental regulatory requirements.

The criteria for selecting Panel members and consultants (M/C) are that they be recognized experts in their fields; that Panel M/C be as impartial and objective as possible; that public pronouncements, if any, by any prospective Panelist reflect balance and objectivity on the subject matter, that Panel M/C are free from conflicts of interest, as determined by the Office of Government Ethics (OGE) (see the OGE Form 450 and the OGE web site: http://www.usoge.gov/pages/forms_pubs_otherdocs/fpo_files/forms/fr450fill_00.pdf); that Panelists represent an array of backgrounds, perspectives and balance (within the disciplines relevant to this review); and that the Panelists be available to participate fully in the review, which will be conducted over a relatively short time frame (i.e., within approximately 3 to 6 months). Panelists will be asked to attend at least one public meeting followed by at least one public teleconference meeting over the course of the review; they will be asked to participate in the discussion of key issues and assumptions at these meetings, and they will be asked to review and to help finalize the products and outputs of the Panel. The Panel will make its recommendations to the SAB Executive Committee (EC) for approval of the Panel's report and transmittal to the EPA Administrator.

Nominees selected as Panelists are appointed as Special Government Employees (SGE) and are subject to government conflict of interest statutes. SGEs serving on the EPA Science Advisory Board are compensated for their time and are reimbursed for their expenses in accordance with standard government travel practices.

Nominations should be submitted to Dr. K. Jack Kooyoomjian, Designated Federal Officer, EPA Science Advisory Board (1400A), U.S. Environmental Protection Agency, 1200 Pennsylvania Avenue, NW., Washington, DC 20460, telephone (202) 564-4557; FAX (202) 501-0582; or via e-mail at kooyoomjian.jack@epa.gov no later than (September 4, 2001).

General Information

Additional information concerning the EPA Science Advisory Board, its structure, function, and composition, may be found on the SAB Website (http://www.epa.gov/sab) and in the EPA Science Advisory Board FY2000 Annual Staff Report which is available from the SAB Publications Staff at (202) 564-4533 or via fax at (202) 501-0256.

Dated: August 15, 2001.
Donald G. Barnes,
Staff Director, EPA Science Advisory Board.

[FR Doc. 01-21340 Filed 8-22-01; 8:45 am]

BILLING CODE 6560-50-P